DEPARTMENT OF THE INTERIOR

Bureau of Land Management

[LLWO35000.L14300000.EQ0000.24-1A; OMB Control Number 1004-0004]

Information Collection; Desert Land Entries

AGENCY: Bureau of Land Management, Interior.

ACTION: 30-day notice and request for comments.

SUMMARY: The Bureau of Land Management (BLM) has submitted an information collection request to the Office of Management and Budget (OMB) for a 3-year extension of OMB Control Number 1004-0004 under the Paperwork Reduction Act. The BLM needs to collect the information in order to determine if an applicant is eligible to make a desert-land entry to reclaim, irrigate, and cultivate arid and semiarid public lands in the States of Arizona, California, Colorado, Idaho, Montana, Nevada, New Mexico, North Dakota, South Dakota, Utah, Washington, and Wyoming.

DATES: The OMB must respond to this request within 60 days but may respond after 30 days. Therefore, written comments should be received on or before July 13, 2009.

ADDRESSES: You may submit comments directly to the Desk Officer for the Department of the Interior (OMB # 1004-0004), Office of Management and Budget, Office of Information and Regulatory Affairs, by electronic mail to OIRA_Docket@omb.eop.gov, or by facsimile to (202) 395-6566. In addition, please mail or hand-carry a copy of your comments to BLM Information Collection Clearance Officer (WO-630), Department of the Interior, 1849 C Street, NW., Mail Stop 401LS, Washington, DC 20240; or send a copy of your comments by electronic mail to Jean_Sonneman@blm.gov, “Attn: 1004-0004.”

FOR FURTHER INFORMATION CONTACT: Alzata Ransom, Division of Lands, Realty and Cadastral Survey, at 202-452-7772 (Commercial or FTS).

SUPPLEMENTARY INFORMATION: 60-Day Notice: On September 23, 2008, the BLM published a 60-day notice (73 FR 54850) requesting comments on the proposed information collection. The comment period ended November 24, 2008. No comments were received.

Title: Desert Land Entries (43 CFR Part 2520).

OMB Control Number: 1004-0004.

Form Number: 2520-1.

Abstract: The BLM needs to collect the information in order to determine if an applicant is eligible to make a desert-land entry to reclaim, irrigate, and cultivate arid and semiarid public lands in the States of Arizona, California, Colorado, Idaho, Montana, Nevada, New Mexico, North Dakota, South Dakota, Utah, Washington, and Wyoming.

Current Action: This proposal is being submitted to extend the expiration date of August 31, 2009.

Type of Review: 3-year extension.

Affected Public: Applicants for a desert land entry.

Obligation to Respond: Required to obtain or retain benefits.

Application Fee per Response: $15.

Estimated Number of Annual Responses: 3.

Estimated Time per Response: 2 hours.

Estimated Total Annual Burden Hours: 6 hours.

The BLM requests comments on the following subjects: (1) Whether the collection of information is necessary for the proper functioning of the BLM, including whether the information will have practical utility; (2) The accuracy of the BLM's estimate of the burden of the information collection, including the validity of the methodology and assumptions used; (3) The quality, utility, and clarity of the information collected; and (4) How to minimize the information collection burden on those who are to respond, including the use of appropriate automated, electronic, mechanical, or other forms of information technology.

Before including your address, phone number, e-mail address, or other personal identifying information in your comment, you should be aware that your entire comment—including your personal identifying information—may be made publicly available at any time. While you can ask us in your comment to withhold your personal identifying information from public review, we cannot guarantee that we will be able to do so.

Jean Sonneman,
Bureau of Land Management, Acting Information Collection Clearance Officer.

[FR Doc. E9-13867 Filed 6-11-09; 8:45 am]

BILLING CODE 4310-84-P